DEPARTMENT OF LABOR

Employment and Training Administration

[TA-W-59,698]

American Fast Print Limited, U.S. Finishing Division Greenville, SC; Dismissal of Application for Reconsideration

Pursuant to 29 CFR 90.18(C) an application for administrative reconsideration was filed with the Director of the Division of Trade Adjustment Assistance for workers at American Fast Print Limited, U.S. Finishing Division, Greenville, South Carolina. The application did not contain new information supporting a conclusion that the determination was erroneous, and also did not provide a justification for reconsideration of the determination that was based on either mistaken facts or a misinterpretation of facts or of the law. Therefore, dismissal of the application was issued.

TA-W-59,698; American Fast Print Limited, U.S. Finishing Division, Greenville, South Carolina (August 3, 2006).

Signed at Washington, DC this 4th day of August 2006.
Richard Church,
Acting Director, Division of Trade Adjustment Assistance.

[FR Doc. E6-13258 Filed 8-11-06; 8:45 am]

BILLING CODE 4510-30-P